ELECTION ASSISTANCE COMMISSION

Sunshine Act Notice

AGENCY: United States Election Assistance Commission.

ACTION: Notice of public meeting.

Date and Time: Thursday, January 17, 2008, 10 a.m.-2 p.m.

Place: U.S. Election Assistance Commission, 1225 New York Ave., NW, Suite 150, Washington, DC 20005, (Metro Stop: Metro Center).

Agenda: Commission will receive briefings on the following: FY2008 Appropriations; EAC Standards Board, EAC Board of Advisors; EAC Technical Development Guidelines Committee; Election Data Collection Grant Program. Commissioners will consider and vote on the following: Changes to the National Voter Registration Form; Disclaimer Proposal to State Instructions Portion of the NVRA Form; EAC Organizational Chart. EAC will install new Officers for 2008. The Commission will consider other administrative matters.

This Meeting Will Be Open To The Public.

Person To Contact For Information: Bryan Whitener, Telephone: (202) 566-3100.

Thomas R. Wilkey,
Executive Director, U.S. Election Assistance Commission.

[FR Doc. 08-93 Filed 1-9-08; 12:55 pm]

BILLING CODE 6820-KF-M